FEDERAL COMMUNICATIONS COMMISSION

47 CFR Part 73

[DA 01-2484; MM Docket No. 00-87; RM-9870RM-9961; RM-9984, RM-9985, RM-9986, RM-9987]

Radio Broadcasting Services; Brightwood, Madras, Prineville and Bend, Oregon

AGENCY: Federal Communications Commission.

ACTION: Final rule.

SUMMARY: The Commission, at the request of Madras Broadcasting, allots Channel 251C1 at Madras, Oregon as the community's first local aural transmission service, substitutes Channel 253C3 for Channel 252C3 at Bend, Oregon, and modifies the license of Station KTWS(FM) to specify the alternate Class C3 channel, and substitutes Channel 255C3 for unoccupied and unapplied-for Channel 254C3 at Prineville, Oregon. It denies the request of Muddy Broadcasting Company proposing the allotment of Channel 251C3 at Brightwood, Oregon, which initiated this proceeding. See 65 FR 34997 (June 1, 2000). Channel 251C1 can be allotted at Madras consistent with the minimum distance separation requirements of Section 73.207 of the Commission's Rules at a site 36.6 kilometers (22.7 miles) northeast of the community. The reference coordinates for Channel 251C1 at Madras, Oregon are 44-50-02 NL and 120-45-55 WL. Channel 253C3 is substituted for Channel 252C3 at Bend consistent with the Commission's Rules at Station KTWS(FM)'s licensed site. The coordinates for Channel 252C3 at Bend, Oregon are 44-04-41 NL and 121-19-57 WL. Channel 255C3 is substituted for Channel 254C3 at Prineville at the vacant allotment site. The coordinates for Channel 255C3 at Prineville, Oregon are 44-13-30 NL and 120-46-30 WL. A filing window for Channel 251C1 at Madras will not be opened at this time. Instead, the issue of opening a filing window for the channel will be addressed by the Commission in a subsequent Order.

DATES: Effective December 10, 2001.

FOR FURTHER INFORMATION CONTACT: Victoria M. McCauley, Mass Media Bureau, (202) 418-2180.

SUPPLEMENTARY INFORMATION: This is a synopsis of the Commission's Report and Order, MM Docket No. 00-87, adopted October 17, 2001, and released October 26, 2001. The full text of this Commission decision is available for inspection and copying during normal business hours in the FCC Reference Center (Room 239), 445 12th Street, SW., Washington, DC. The complete text of this decision may also be purchased from the Commission's copy contractor, Qualtex International, Portals II, 445 12th Street, SW., Room CY-B402, Washington, DC 20554, telephone (202) 863-2893.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334. 336.

§ 73.202 [Amended]

2. Section 73.202(b), the Table of FM Allotments under Oregon is amended by adding Madras, Channel 251C1; removing Channel 252C3 and adding Channel 253C3 at Bend, and removing Channel 254C3 and adding Channel 255C3 at Prineville.

Federal Communications Commission.
John A. Karousos,
Chief, Allocations Branch, Policy and Rules Division, Mass Media Bureau.

[FR Doc. 01-28073 Filed 11-7-01; 8:45 am]

BILLING CODE 6712-01-P